DEPARTMENT OF TRANSPORTATION

Surface Transportation Board

[STB Finance Docket No. 34272]

North Carolina & Virginia Railroad, Inc.—Lease and Operation Exemption-Norfolk Southern Railway Company

North Carolina & Virginia Railroad, Inc., the Chesapeake & Albemarle Division (NCVA), a Class III rail carrier, has filed a verified notice of exemption under CFR 1150.41 to lease and operate a 4-mile rail line from Norfolk Southern Railway Company extending between milepost NS 4.0 at Chesapeake, VA, and milepost NS 8.0 at Butts, VA.

Because NCVA's projected annual revenues will exceed $5 million, NCVA certified to the Board on October 22, 2002, that it had, on that date, posted the required notice of intent to undertake the proposed transaction at the workplace of the employees on the affected line and had served a copy of the notice of intent on the national offices of all labor unions with employees on the rail line. See 49 CFR 1150.42(e). NCVA stated in its verified notice that the transaction was scheduled to take place on January 4, 2002, or shortly thereafter.

If the notice contains false or misleading information, the exemption is void ab initio. Petitions to revoke the exemption under 49 U.S.C. 10502(d) may be filed at any time. The filing of a petition to revoke does not automatically stay the transaction.

An original and 10 copies of all pleadings, referring to STB Finance Docket No. 34272, must be filed with the Surface Transportation Board, 1925 K Street, NW., Washington, DC 20423-0001. In addition, a copy of each pleading must be served on Gary A. Laakso, Vice President Regulatory Counsel, North Carolina & Virginia Railroad, Inc., 5300 Broken Sound Boulevard NW., Boca Raton, FL 33487, and Louis E. Gitomer, Ball Janik LLP, 1455 F Street, NW., Suite 225, Washington, DC 20005.

Board decisions and notices are available on or Web site at “http://www.stb.dot.gov.”

Decided: January 14, 2003.
By the Board, David M Konschnik, Director, Office of Proceedings.
Vernon A. Williams,
Secretary.

[FR Doc. 03-1228 Filed 1-21-03; 8:45 am]

BILLING CODE 4915-00-P